NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 28, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, National Records Management Program (ACN), National Archives and Records Administration, 8601 Adelphi Road, College Park, MD 20740-6001. Telephone: 301-837-1539. E-mail: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Animal and Plant Health Inspection Service (N1-463-09-8, 2 items, 2 temporary items). Master files of an electronic information system containing import permit application and review information.

2. Department of Agriculture, Forest Service (N1-95-10-2, 161 items, 83 temporary items). Routine administrative records related to various programs throughout the agency, including general correspondence, reports, studies, plans, case files, and interagency and intergovernmental agreements. Proposed for permanent retention are rulemaking files; directives; policy files; meeting minutes of high-level staff; agency publications; press releases; audio-visual materials of a significant nature, including photographs, posters, and films; as well as plans, studies, reports, and case files of a significant nature.

3. Department of Agriculture, Risk Management Agency (N1-258-09-1, 1 item, 1 temporary item). Records of documentation, correspondence, company records, and photographs provided by agricultural producers to the agency for natural disaster evaluation under Federal crop insurance and assistance programs.

4. Department of Agriculture, Risk Management Agency (N1-258-09-2, 1 item, 1 temporary item). Consultation records with state and county offices to identify areas of concern in crop insurance programs and to adjust policies and insurance plans.

5. Department of the Army, Agency-wide (N1-AU-10-57, 1 item, 1 temporary item). Master files of an electronic information system used to schedule, manage, and track students training at the Army Logistics Management College.

6. Department of the Army, Agency-wide (N1-AU-10-60, 1 item, 1 temporary item). Master files of an electronic information system containing facility space management data.

7. Department of the Army, Agency-wide (N1-AU-10-107, 1 item, 1 temporary item). Master files of an electronic information system used to collect weapon systems acquisition data such as cost analysis, risk assessments, and contract requirements list.

8. Department of the Army, Agency-wide (N1-AU-11-6, 1 item, 1 temporary item). Master files of an electronic information system used to manage logistical issues. Included are records relating to supplies, ammunition stockpiles, and requisitioning.

9. Department of the Army, Agency-wide (N1-AU-11-7, 1 item, 1 temporary item). Master files of an electronic information system used to process military interdepartmental purchase requests. Included is such data as national stock number, requester, price, and quantity received.

10. Department of the Army, Agency-wide (N1-AU-11-10, 1 item, 1 temporary item). Master files of an electronic information system used to manage contract files. Included are purchase requests, engineering documents, amendments, and post-award documents.

11. Department of the Army, Agency-wide (N1-AU-11-14, 1 item, 1 temporary item). Master files of an electronic information system used to support the Army's financial program and budget development process. Included are table of allowances, command codes, and similar resource management information.

12. Department of the Army, Agency-wide (N1-AU-11-15, 1 item, 1 temporary item). Master files of an electronic information system used to manage manpower resources. Included is data relating to budgetary projections, organizational structure, and personnel requirements.

13. Department of the Army, Agency-wide (N1-AU-11-18, 1 item, 1 temporary item). Master files of an electronic information system used to improve readiness and reduce excess equipment and manpower for the National Guard Bureau. Included are logistical data on weapons, electronic equipment, vehicles, and medical equipment.

14. Department of the Army, Agency-wide (N1-AU-11-20, 1 item, 1 temporary item). Master files of an electronic information system used to collect and process force development financial data. Included are budget data, resource proposals, and long range planning documents.

15. Department of the Army, Agency-wide (N1-AU-11-21, 1 item, 1 temporary item). Master files of an electronic information system used to automate supply, finance, and maintenance of aircrafts. Included is budget and aircraft maintenance and repair data.

16. Department of the Army, Agency-wide (N1-AU-11-31, 2 items, 2 temporary items). Corrections system records, including records relating to notification of victims and witnesses and training records for correctional personnel.

17. Department of Defense, Defense Contract Management Agency (N1-558-10-1, 4 items, 4 temporary items). Records relating to general administrative matters, mail delivery, telecommunications, printing and duplication, and records management.

18. Department of Defense, Defense Contract Management Agency (N1-558-10-8, 8 items, 8 temporary items). Records relating to agency financial matters such as disbursements, procurement, collection of funds, financial planning, expenditure accounting, and cost accounting.

19. Department of Defense, Joint Staff and Combatant Commands (N1-218-10-5, 49 items, 37 temporary items). Comprehensive schedule covering all administrative and program areas, including general administration, organization and manpower, personnel and payroll, intelligence and security, legal matters, public affairs, operations, logistics and supply, safety, telecommunications and cryptology, international relations, information technology, medical functions, and Joint Staff Top Five officials and headquarters Combatant Command. Included are such records as staff visit files, routine Inspector General investigation files, quarterly manpower authorizations, unit manning documents, personnel counseling records, payroll correspondence, Top Secret document registers, legal opinions based on established precedent, records relating to military exercises, general safety records, telecommunications agreements, records relating to disclosure of information to foreign governments, IT systems feasibility studies, and general medical administration correspondence. Proposed for permanent retention are such records as general orders relating to issuing of military awards, records relating to agency-wide manpower needs, investigative records for significant security incidents, security classification guides, speeches of high-level officials, force protection planning records, ballistic missile defense program records, cryptology policy records, international agreements, official histories, medical policy and guidance records, policy and planning memoranda of high-level officials, and schedules of daily activities of the Chairman and Combatant Commanders.

20. Department of Homeland Security, Transportation Security Administration (N1-560-11-2, 1 item, 1 temporary item). Correspondence, questionnaires summary analyses, and other documentation related to security assessments of high risk modes of transportation.

21. Department of Homeland Security (N1-563-11-10, 1 item, 1 temporary item). Logs, summaries, and source documents relating to monitoring non-significant incidents.

22. Department of the Interior, Office of Surface Mining and Reclamation Enforcement (N1-471-11-1, 15 items, 8 temporary items). Map folios and key maps, abandoned mine land complaint files, emergency project files, predecessor project files, borehole logs, internal daily administrative reports, aerial photographs, project related maps, and technical reference materials. Temporary records will be donated to the Commonwealth of Pennsylvania. Proposed for permanent retention are original anthracite coal mine maps, engineering drawings, scanned map folios and key maps, photographic prints, slides, motion pictures, and related indexes and finding aids.

23. Department of Justice, Bureau of Alcohol, Tobacco, Firearms, and Explosives (N1-436-11-2, 2 items, 2 temporary items). Paper and electronic versions of regulatory firearms or explosives exemptions granted to Federal licensees requesting permission to use an alternate method for production.

24. Department of Justice, Criminal Division (N1-60-08-12, 1 item, 1 temporary items), Master files of an electronic information system used to track annual registrations of gambling devices.

25. Department of Justice, Federal Bureau of Investigation (N1-65-11-11, 5 items, 5 temporary items). Accounts receivable records relating to interagency debts owed to the FBI and debt collection matters related to employees.

26. Department of Justice, Federal Bureau of Investigation (N1-65-11-26, 2 items, 2 temporary items). Intelligence analyst training logbooks documenting completion of training experiences and courses and reduction in retention period for similar training logbooks for new agents.

27. Department of Justice, Federal Bureau of Investigation (N1-65-11-35, 1 item, 1 temporary item). Master files of an electronic information system used for data analysis and reporting by the National Cyber Investigative Joint Task Force.

28. Department of Justice, National Drug Intelligence Center (N1-523-11-1, 3 items, 3 temporary items). Master files of an electronic information system used to help identify synthetic drug-related behaviors at an early stage, evaluate their likely importance, track their development, and share drug alert watches and warnings.

29. Department of the Navy, Agency-wide (DAA-NU-2011-0002, 1 item, 1 temporary item). Records documenting improvement of land and construction, including copies of contract award, project approval, surveys, and final invoices.

30. Department of Transportation, Federal Motor Carrier Safety Administration (N1-557-10-1, 3 items, 3 temporary items). Master files of electronic information systems containing information on enforcement actions, Web records, and Web content records.

31. Department of the Treasury, Alcohol and Tobacco Tax and Trade Bureau (N1-564-11-1, 1 item, 1 temporary item). Curriculum, text, guides, and other materials used for internal staff training.

32. Federal Retirement Thrift Investment Board, Office of the Executive Director (N1-474-11-1, 1 item, 1 temporary item). Monthly calendars of the executive director.

33. National Aeronautics and Space Administration, Agency-wide (DAA-0255-2011-2011-0003, 1 item, temporary item). General administrative records including work papers, agendas, statistical reports, and routine correspondence.

34. National Telecommunications and Information Administration, Office of Spectrum Management (N1-417-10-2, 45 items, 36 temporary items). Records including subject and reference files, training materials, frequency assignment applications and lists, agendas, hydrology files, routine correspondence and committee records, electronic database of Federal radio spectrum assignments, public Web pages, and database audit information. Proposed for permanent retention are records of the Interdepartment Radio Advisory Committee, docket files, Federal radio spectrum assignment records and certification requests, and spectrum analysis reports.

35. Office of Navajo and Hopi Indian Relocation, Agency-wide (N1-220-11-4, 2 items, 2 temporary items). Records of agency external Web site including design, management, and technical operation documents.

36. Office of Personnel Management, Office of the Chief Information Officer (N1-478-10-1, 2 items, 2 temporary items). Master files and outputs of an electronic information system used to track a scholarship program.

Dated: October 20, 2011.
Paul M. Wester, Jr.,
Chief Records Officer for the U.S. Government.

[FR Doc. 2011-27799 Filed 10-26-11; 8:45 am]

BILLING CODE 7515-01-P